DEPARTMENT OF COMMERCE

International Trade Administration

[A-570-890]

Wooden Bedroom Furniture From The People's Republic of China: Notice of Partial Rescission of Antidumping Duty Administrative Review

AGENCY: Import Administration, International Trade Administration, Department of Commerce.

SUMMARY: On March 7, 2007, the Department of Commerce (“the Department”) initiated the second administrative review of the antidumping duty order on wooden bedroom furniture from the People's Republic of China (“PRC”) covering the period January 1, 2006, through December 31, 2006. See Notice of Initiation of Administrative Review of the Antidumping Duty Order on Wooden Bedroom Furniture from the People's Republic of China, 72 FR 10159 (March 7, 2007) (“Initiation Notice”).¹ Between March 7 and June 6, 2007, several parties withdrew their requests for review. Therefore, the Department is rescinding the administrative review of sales of wooden bedroom furniture with respect to the entities for whom all review requests have been withdrawn.

¹ On May 30, 2007, the Department published a subsequent notice clarifying that Country Roots Furniture Inc. was omitted from the Initiation Notice. See Initiation of Antidumping and Countervailing Duty Administrative Reviews and Request for Revocation in Part, 72 FR 29968, 29969 n. 5 (May 30, 2007).

DATES: Effective Date: August 2, 2007.

FOR FURTHER INFORMATION CONTACT: Robert Bolling, AD/CVD Operations, Office 8, Import Administration, International Trade Administration, U.S. Department of Commerce, 14th Street and Constitution Avenue, NW., Washington, DC 20230; telephone: (202) 482-3434

SUPPLEMENTARY INFORMATION:

Background

On January 4, 2005, the Department published in the Federal Register the antidumping duty order on wooden bedroom furniture from the PRC. See Notice of Amended Final Determination of Sales at Less Than Fair Value and Antidumping Duty Order: Wooden Bedroom Furniture from the People's Republic of China, 70 FR 329 (January 4, 2005). On January 3, 2007, the Department published a notice of opportunity to request an administrative review of the antidumping duty order on wooden bedroom furniture from the PRC for the period January 1, 2006, through December 31, 2006. See Antidumping or Countervailing Duty Order, Finding, or Suspended Investigation: Opportunity to Request Administrative Review, 72 FR 99 (January 3, 2007).

The Department received multiple timely requests for review and on March 7, 2007, in accordance with section 751(a) of Tariff Act of 1930, as amended (“the Act”), published in the Federal Register a notice of the initiation of the antidumping duty administrative review of wooden bedroom furniture from the PRC for the 2006 period of review. See Initiation Notice.

Partial Rescission of Review

Pursuant to 19 CFR 351.213(d)(1), the Department will rescind an administrative review, in whole or in part, if a party that requested a review withdraws the request within 90 days of the date of publication of the notice of initiation. In response to a timely filed extension request from Petitioners to extend the withdrawal deadline, the Department extended the deadline for withdrawing review requests. Because all requesting parties withdrew their respective requests for review of the following entities, the Department is rescinding this review with respect to these entities, in accordance with 19 CFR 351.213(d)(1):

Alexandre International Corp., Southern Art Development Ltd., Alexandre Furniture (Shenzhen) Co. Ltd., Southern Art Furniture Factory

Art Heritage International Ltd., Super Art Furniture Co. Ltd., Artwork Metal & Plastic Co., Ltd., Jibson Industries Ltd., Always Loyal International

Billy Wood Industrial (Dong Guan), Great Union Industrial (Dongguan) Co., Ltd., Time Faith Ltd.

Changshu HTC Import & Export Co. Ltd.

Cheng Meng Furniture (PTE) Co., Ltd.,² Cheng Meng Decoration & Furniture (Suzhou) Co., Ltd.

² The Department received a request from petitioners to review Chen Meng Furniture (PTE) Co. Ltd. However, we have determined that the correct name for this company is review Cheng Meng Furniture (PTE) Co. Ltd.

Chuan Fa Furniture Factory

Clearwise Co., Ltd.

COE, Ltd.

Dalian Huafeng Furniture Co., Ltd.

Dongguan Cambridge Furniture Co., Ltd., Glory Oceanic Co., Ltd.

Dongguan Chunsan Wood Products Co., Ltd., Trendex Industries Limited

Dongguan Creation Furniture Co., Ltd., Creation Industries Co., Ltd.

Dongguan Grand Style Furniture Co., Ltd., Hong Kong DaZhi Furniture Company Ltd.

Dongguan Great Reputation Furniture Co., Ltd.

Dongguan Hero Way Woodwork Co., Ltd., Hero Way Enterprises, Ltd., Dongguan Da Zhong Woodwork Co., Ltd., Well Earth International Ltd.

Dongguan Hung Sheng Artware Products Co., Ltd., Coronal Enterprise Co., Ltd.

Dongguan Kin Feng Furniture Co., Ltd.

Dongguan Kingstone Furniture Co., Ltd., Kingstone Furniture Co., Ltd.

Dongguan Liaobushangdun Huada Furniture Factory, Great Rich (HK) Enterprises Co., Ltd.

Dongguan Lung Dong Furniture Co., Ltd., Dongguan Dong He Furniture Co., Ltd.

Dongguan Singways Furniture Co., Ltd.

Dongguan Sunrise Furniture Co., Taicang Sunrise Wood Industry Co., Ltd., Shanghai Sunrise Furniture Co., Ltd., Fairmont Designs

Dongying Huanghekou Furniture Industry Co., Ltd.

Dorbest Ltd., Rui Feng Woodwork Co., Ltd., Rui Feng Lumber Development Co., Ltd., aka, Dorbest Ltd., Rui Feng Woodwork (Dongguan) Co., Ltd., Rui Feng Lumber Development (Shenzhen) Co., Ltd.

Dream Rooms Furniture (Shanghai) Co., Ltd.

Eurosa (Kunshan) Co., Ltd., Eurosa Furniture Co., (PTE) Ltd.

Ever Spring Furniture Co., Ltd., S.Y.C. Family Enterprise Co., Ltd.

Fine Furniture (Shanghai) Ltd.

Foshan Guanqiu Furniture Co., Ltd.

Garri Furniture (Dong Guan) Co., Ltd., Molabile International, Inc., Weei Geo Enterprise Co., Ltd.

Green River Wood (Dongguan) Ltd.

Guangzhou Maria Yee Furnishings, Ltd., Pyla HK Ltd.

Hainan Jong Bao Lumber Co., Ltd., Jibbon Enterprise Co., Ltd.

Hamilton & Spill Ltd.

Hang Hai Woodcrafts Art Factory

Hualing Furniture (China) Co., Ltd., Tony House Manufacture (China) Co., Ltd., Buysell Investments Ltd., Tony House Industries Co., Ltd.

Jardine Enterprise, Ltd.

Jiangmen Kinwai Furniture Decoration Co., Ltd.

Jiangmen Kinwai International Furniture Co., Ltd.

Jiangsu Weifu Group Company Fullhouse Furniture Manufacturing Corp

Jiangsu Xiangsheng Bedtime Furniture Co., Ltd.

Jiangsu Yuexing Furniture Group Co., Ltd.

Jiedong Lehouse Furniture Co., Ltd.

King's Way Furniture Industries Co., Ltd., Kingsyear, Ltd.

Kuan Lin Furniture (Dong Guan) Co., Ltd., Kuan Lin Furniture Factory, Kuan Lin Furniture Co., Ltd.

Kunshan Lee Wood Product Co., Ltd.

Kunshan Summit Furniture Co. Ltd.

Langfang TianCheng Furniture Co., Ltd.

Leefu Wood (Dongguan) Co., Ltd., King Rich International, Ltd.

Link Silver Ltd. (V.I.B.), Forward Win Enterprises Co. Ltd., Dongguan Haoshun Furniture Ltd.

Locke Furniture Factory, Kai Chan Furniture Co. Ltd., Kai Chan (Hong Kong) Enterprise Ltd., Taiwan Kai Chan Co. Ltd.

Longrange Furniture Co. Ltd.

Maria Yee, Inc.

Nanhai Baiyi Woodwork Co. Ltd.

Nanhai Jiantai Woodwork Co. Ltd., Fortune Glory Industrial, Ltd. (HK Ltd.)

Nantong Dongfang Orient Furniture Co., Ltd.

Nantong Yushi Furniture Co., Ltd.

Nathan International Ltd., Nathan Rattan Factory

Ningbo Furniture Industries Limited, Techniwood Industries Ltd., Ningbo Hengrun Furniture Co., Ltd.

Orient International Holding Shanghai Foreign Trading Co., Ltd.

Passwell Corporation, Pleasant Wave Ltd.

Perfect Line Furniture Co., Ltd.

Primewood International Co., Ltd., Prime Best International Co., Ltd., Prime Best Factory, Liang Huang (Jiaxing) Enterprise Co., Ltd.

PuTian JingGong Furniture Co., Ltd.

Qingdao Liangmu Co., Ltd.

Restonic (Dongguan) Furniture Ltd., Restonic Far East (Samoa) Ltd.

RiZhao SanMu Woodworking Co., Ltd.

Season Furniture Manufacturing Co., Season Industrial Development Co.

Sen Yeong International Co. Ltd., Sheh Hau International Trading Ltd.

Shanghai Jian Pu Export & Import Co., Ltd.

Shanghai Maoji Imp. & Exp. Co. Ltd.

Sheng Jing Wood Products (Beijing) Co., Ltd., Telstar Enterprises Ltd.

Shenyang Shining Dongxing Furniture Co., Ltd.

Shenzhen Forest Furniture Co., Ltd.

Shenzhen Jiafa High Grade Furniture Co., Ltd., Golden Lion International Trading Ltd.

Shenzhen New Fudu Furniture Co., Ltd. Shenzhen Wonderful Furniture Co., Ltd.

Shenzhen Xiande Furniture Factory

Shing Mark Enterprise Co., Ltd., Carven Industries Ltd. (BVI), Carven Industries Limited (HK), Dongguan Zhenxin Furniture Co., Ltd., Dongguan Yongpeng Furniture Co., Ltd.

Shun Feng Furniture Co., Ltd.

Songgang Jasonwood Furniture Factory, Jasonwood Industrial Co., Ltd. S.A.

Starwood Furniture Manufacturing Co., Ltd.

Starwood Industries Ltd.

Strongson Furniture (Shenzhen) Co., Ltd., Strongson Furniture Co., Ltd., Strongson (HK) Co.

Sunforce Furniture (Hui-Yang) Co., Ltd., SunFung Wooden Factory, Sun Fung Co., Shin Feng Furniture Co. Ltd., Stupendous International Co. Ltd.

Superwood Co. Ltd., Lianjiang Zongyu Art Products Co., Ltd.

Tarzan Furniture Industries, Ltd., Samso Industries Ltd.

Tianjin Fortune Furniture Co. Ltd.

Tianjin Master Home Furniture

Tianjin Phu Shing Woodwork Enterprise Co., Ltd.

Tube-Smith Enterprises (ZhangZhou) Co., Ltd., Tube-Smith Enterprise (Haimen) Co., Ltd., Billionworth Enterprise, Ltd.

U-Rich Furniture (ZhangZhou) Co., Ltd., U-Rich Furniture, Ltd.

Wanhengtong Nueevder (Furniture) Manufacture Co., Ltd., Dongguan Wanhengtong Industry Co., Ltd.

Woodworth Wooden Industries (Dong Guan) Co., Ltd.

Xiamen Yongquan Sci-Tech Development Co., Ltd.

Xingli Arts & Crafts Factory of Yangchun

Yida Co. Ltd., Yitai Worldwide Ltd., Yili Co., Ltd., Yetbuild Co., Ltd.

Yihua Timber Industry Co., Ltd., aka Guangdong Yihua Timber Industry Co., Ltd.

ZhangZhou Sanlong Wood Product Co., Ltd.

Zhangjiagang Daye Hotel Furniture Co., Ltd.

Zhangzhou Guohui Industrial & Trade Co. Ltd.

Zhanjiang Sunwin Arts & Crafts Co., Ltd.

Zhong Shan Fullwin Furniture Co., Ltd.

Zhongshan Fookyik Furniture Co., Ltd.

Zhongshan Golden King Furniture Industrial Co., Ltd.

Zhoushan For-Strong Wood Co., Ltd.

Assessment

The Department will instruct U.S. Customs and Border Protection (“CBP”) to assess antidumping duties on all appropriate entries for the above-named entities. For those companies for which this review has been rescinded, antidumping duties shall be assessed at rates equal to the cash deposit of estimated antidumping duties required at the time of entry, or withdrawal from warehouse, for consumption, in accordance with 19 CFR 351.212(c)(1)(i). The Department will issue appropriate assessment instructions directly to CBP 15 days after the publication of this notice in the Federal Register.

In addition, the Department is rescinding this review with respect to the following entities which did not receive a separate rate in any completed prior segment of this proceeding. For purposes of initiation of this administrative review, the Department accepted requests for review of these entities based upon the premise that such entities would seek to demonstrate in this review that they were, in law and in fact, separate from the PRC-wide entity, and therefore, entitled to a rate separate from the rate established for the PRC-wide entity. However, as the requests for review of these entities have been withdrawn, these entities may be subject to this review as part of the single PRC-wide entity.³ Therefore, the Department will provide assessment instructions to CBP for the PRC-wide entity, which includes the following companies, after the final results of this administrative review.

³ If one of the companies remaining under review does not qualify for a separate rate, all other exporters of wooden bedroom furniture from the PRC that have not qualified for a separate rate are deemed to be covered by this review as part of the single PRC-wide entity of which the named exporter is a part.

Engmost Investments Limited

Golden Well International (HK), Ltd.

Hainan Rulai Furniture Co., Ltd.

Huizhou Jadom Furniture Co., Ltd., Jadom Furniture Co., Ltd.

Kong Fong Furniture, Kong Fong Mao Iek Hong

Kunshan Junsen Furniture Co., Ltd.

Nathan China Group

Putian Ou Dian Furniture Co., Ltd.

Time Crown (U.K.) International Ltd., China United International Co.

Tradewinds Furniture Ltd.

Tradewinds International Enterprise Ltd.

Trendex Industries Limited (BVI)

The review will continue with respect to all other entities identified in the Initiation Notice.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Act, and 19 CFR 351.213(d)(4) of the Department's regulations.

Dated: July 25, 2007 .
Stephen J. Claeys,
Deputy Assistant Secretary for Import Administration.

[FR Doc. E7-14953 Filed 8-1-07; 8:45 am]

BILLING CODE 3510-DS-P